Proclamation 10400 of May 20, 2022

Armed Forces Day, 2022

By the President of the United States of America

A Proclamation

On Armed Forces Day, we share our unending appreciation for the proud patriots who answer the call to serve, taking the sacred oath to defend our Constitution. The brave members of our Army, Navy, Air Force, Marine Corps, Space Force, Coast Guard, and National Guard and Reserve forces represent the best of our Nation. Today and every day, we honor their immeasurable service on behalf of our grateful Nation.

On this special day of tribute, we recognize the sacrifices that our service members and their families make on our behalf, and we recommit to our solemn duty to support them as they protect us. Our Nation has a sacred obligation to properly equip and prepare our troops when we send them in to harm's way and to support them—both while they are serving abroad and when they return home—as well as their families, caregivers, and survivors. We must meet this obligation.

My Administration's unity agenda focuses on key issues that bring Americans together: supporting our veterans, beating the opioid epidemic, addressing our national mental health crisis, and ending cancer as we know it. Each of these issues impact our military community, and each is essential to meeting our obligation to our troops, their families, caregivers, and survivors. Mental health issues pose a real challenge to our service members and their families, and my Administration will continue to strengthen the tools, resources, and support for our military community so our brave service members, who have answered the call to serve, can thrive. This includes taking bold action to reduce suicide among service members, veterans, and their families.

The success of our Armed Forces also rests on every member of our military community feeling that their safety and ability to prosper is prioritized as they defend our Nation. That is why my Administration is so focused on addressing the potential adverse consequences related to toxic exposures or exposures to other environmental hazards during deployment or in garrison.

Safety for our troops also means addressing the scourge of sexual harassment and sexual assault in our military. We have already taken important steps. In December, I was proud to sign into law historic military justice reforms as part of the 2022 National Defense Authorization Act. The Department of Defense is working to implement these critical changes, alongside recommendations from the Independent Review Commission on Sexual Assault in the Military for prevention, climate and culture, and victim care and support. Much work still lies ahead to deliver the progress that our troops deserve, and this will remain a top priority for my Administration.

Our diversity is one of our greatest strengths as a Nation, and we will continue to strive for our Armed Forces to reflect society at every level within its ranks. Ensuring equal opportunity and greater inclusivity will bolster the strength of our military and make sure every American knows they can succeed and thrive as a member of the United States Armed Forces. We are renewing our efforts to address the recruitment, retention, and well-being of women in the military as well as providing a path to service for other under-represented groups.

As we look around the world today, we are reminded again that freedom comes at great cost. Throughout our history, brave Americans have always stepped forward to defend our liberties—willing to pay the price to keep our country safe. Our Nation's Armed Forces are the best in the world. And we know that it is not only the person who wears our Nation's uniform that serves. Their loved ones serve as well. Today, we also honor the families, caregivers, and survivors of our Armed Forces—all those who sacrifice on our behalf and who give their all to support the service members they stand behind.

On Armed Forces Day, we salute our brave service members, whose dedication and sacrifice ensure that our Nation's Armed Forces are unmatched in strength, unity, and resilience. They are the greatest fighting force the world has ever known.

NOW, THEREFORE, I, JOSEPH R. BIDEN JR., President of the United States of America, and Commander in Chief of the Armed Forces of the United States, continuing the precedent of my predecessors in office, do hereby proclaim the third Saturday of each May as Armed Forces Day.

I direct the Secretary of Defense, on behalf of the Army, Navy, Air Force, Marine Corps, Space Force, and the Secretary of Homeland Security on behalf of the Coast Guard, to plan for appropriate observances each year, with the Secretary of Defense responsible for soliciting the participation and cooperation of civil authorities and private citizens. I invite the Governors of the States, the Commonwealth of Puerto Rico, and other areas subject to the jurisdiction of the United States to provide for the observance of Armed Forces Day within their respective jurisdictions each year in an appropriate manner designed to increase public understanding and appreciation of the Armed Forces of the United States. I also invite veterans, civic leaders, and other organizations to join in the observance of Armed Forces Day each year.

Finally, I call upon all Americans to display the flag of the United States at their homes and businesses on Armed Forces Day, and I urge citizens to learn more about military service by attending and participating in the local observances of the day.

Proclamation 10210 of May 14, 2021, is hereby superseded.

IN WITNESS WHEREOF, I have hereunto set my hand this twentieth day of May, in the year of our Lord two thousand twenty-two, and of the Independence of the United States of America the two hundred and forty-sixth.

[FR Doc. 2022-11322

Filed 5-23-22; 11:15 am]

Billing code 3395-F2-P